DEPARTMENT OF ENERGY

Federal Energy Regulatory Commission

[Docket No. RT01-35-000]

Avista Corporation, The Bonneville Power Administration, Idaho Power Company, The Montana Power Company, Nevada Power Company, PacifiCorp, Portland General Electric Company, Puget Sound Energy, Inc., Sierra Pacific Power Company; Notice of Filing

December 15, 2000.

Take notice that on December 1, 2000, Avista Corporation, the Bonneville Power Administration, Idaho Power Company, The Montana Power Company, PacifiCorp, and Puget Sound Energy, Inc. (collectively, the Concurring Utilities) filed an “Amended Supplemental Compliance Filing and Request for Declaratory Order Pursuant to Order 2000” at the Federal Energy Regulatory Commission (Commission) under the Commission's Order 2000. This filing amends the “Supplemental Compliance Filing and Request for Declaratory Order Pursuant to Order 2000” submitted to the Commission by the Concurring Utilities, together with Nevada Power Company, Portland General Electric Company, and Sierra Pacific Power Company, on October 23, 2000 (the October 23 Compliance Filing). The filing includes amended versions of the Form of Transmission Operating Agreement and Form of Agreement to Suspend Provisions of Pre-Existing Transmission Agreements, which were submitted with the October 23 Compliance Filing. The filing also provides brief explanations for the agreements' amendments.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before January 16, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments and protests may be filed electronically via the internet in lieu of paper. See, 18 CFR 385.2001(a)(1)(iii) and the instructions on the Commission's web site at http:/­/www.ferc.fed.us/efi/doorbell.htm.

David P. Boergers,
Secretary.

[FR Doc. 00-32533 Filed 12-20-00; 8:45 am]

BILLING CODE 6717-01-M